DEPARTMENT OF LABOR

Employment and Training Administration

[TA-W-65,059]

Core Molding Technologies, Columbus, OH; Notice of Termination of Investigation

The investigation was initiated on February 2, 2009 in response to a petition filed by the International Association of Machinists, Local 1471 on behalf of workers of Core Molding Technologies, Columbus, Ohio.

The petitioner has requested that the petition be withdrawn. Consequently, the investigation has been terminated.

Signed at Washington, DC, this 2nd day of April 2009.
Linda G. Poole,
Certifying Officer, Division of Trade Adjustment Assistance.

[FR Doc. E9-10368 Filed 5-5-09; 8:45 am]

BILLING CODE 4510-FN-P